MARINE MAMMAL COMMISSION

Request for Nominations; Committee of Scientific Advisers on Marine Mammals

AGENCY: Marine Mammal Commission.

ACTION: Notice.

SUMMARY: The Marine Mammal Commission was created under title II of the Marine Mammal Protection Act of 1972, as amended. The Commission is assisted in its duties by the Committee of Scientific Advisers on Marine Mammals. The Committee consists of nine members, appointed by the Chair of the Commission. As a general rule, Committee Members are appointed for three-year terms, which may be extended, but vacancies do not occur on a regular basis. To assist the Commission in identifying qualified candidates for appointment to the Committee if and when vacancies occur, the Commission is soliciting nominations from the public.

DATES: Nominations for this solicitation should be received 30 days after publication of this notice. Nominations also will be accepted at other times on an ongoing basis.

ADDRESSES: Catherine Shrestha, Administrative Officer, Marine Mammal Commission, 4340 East-West Highway, Room 700, Bethesda, Maryland 20814. Nominations (Word, PDF, in text of email) may be sent via email to cshrestha@mmc.gov (mailto:cshrestha@mmc.gov). Nominations should include a brief statement of the nominee's qualifications and should include a copy of the nominee's curriculum vitae. Self-nominations are acceptable.

FOR FURTHER INFORMATION CONTACT: Peter O. Thomas, Ph.D., Executive Director, Marine Mammal Commission, 4340 East-West Highway, Room 700, Bethesda, Maryland 20814; (301) 504-0087.

SUPPLEMENTARY INFORMATION: Section 203 of the Marine Mammal Protection Act directs the Commission to establish a nine-member Committee of Scientific Advisers on Marine Mammals. The Committee is to consist of scientists knowledgeable in marine ecology and marine mammal affairs. Members are appointed by the Chair of the Commission after consultation with the Chairman of the Council on Environmental Quality, the Secretary of the Smithsonian Institution, the Director of the National Science Foundation, and the Chairman of the National Academy of Sciences. The Commission is required to consult with the Committee on all studies and recommendations that it may propose to make or has made, on research programs conducted or proposed to be conducted under the authority of the Act, and on all applications for permits for scientific research.

In selecting individuals to serve on the Committee, the Commission seeks to ensure that the Committee membership as a whole possesses a high level of expertise with respect to scientific disciplines, marine mammal species, and geographic areas of importance to the Commission's responsibilities. In particular, the Commission requires a high level of knowledge with respect to the biology and ecology of certain marine mammal species that, due to their small population levels and/or threats they face, require special attention. In addition, Committee members are selected to provide broad familiarity with marine mammal species and issues from a range of geographic regions where Commission responsibilities are especially great. A listing of the current members of the Committee is available on the Commission's website at https://www.mmc.gov/.

Dated: February 21, 2023.
Peter O. Thomas,
Executive Director.

[FR Doc. 2023-04101 Filed 3-1-23; 8:45 am]

BILLING CODE 6820-31-P